DEPARTMENT OF EDUCATION

34 CFR Chapter III

[Docket ID ED-2024-OSERS-0012]

State Personnel Development Grants

AGENCY: Office of Special Education and Rehabilitative Services, Department of Education.

ACTION: Proposed priorities and requirements.

SUMMARY: The Department of Education (Department) proposes priorities and requirements under the State Personnel Development Grants (SPDG) program, Assistance Listing Number 84.323A. The Department may use these priorities and requirements for competitions in fiscal year (FY) 2024 and later years. We take this action to focus attention on assisting States in reforming and improving their systems for personnel preparation and personnel development in order to improve results for children with disabilities.

DATES: We must receive your comments on or before April 29, 2024.

ADDRESSES: Comments must be submitted via the Federal eRulemaking Portal at www.regulations.gov. However, if you require an accommodation or cannot otherwise submit your comments via www.regulations.gov, please contact the program contact person listed under FOR FURTHER INFORMATION CONTACT. The Department will not accept comments submitted by fax or by email, or comments submitted after the comment period closes. To ensure the Department does not receive duplicate copies, please submit your comments only once. In addition, please include the Docket ID at the top of your comments.

Federal eRulemaking Portal: Go to www.regulations.gov to submit your comments electronically. Information on using Regulations.gov, including instructions for accessing agency documents, submitting comments, and viewing the docket, is available on the site under “FAQ.”

Note: The Department's policy is generally to make comments received from members of the public available for public viewing in their entirety on the Federal eRulemaking Portal at www.regulations.gov. Therefore, commenters should be careful to include in their comments only information that they wish to make publicly available.

FOR FURTHER INFORMATION CONTACT: Jennifer Coffey, U.S. Department of Education, 400 Maryland Avenue SW, Room 4A10, Washington, DC 20202. Telephone: (202) 987-0150. Email: Jennifer.Coffey@ed.gov.

If you are deaf, hard of hearing, or have a speech disability and wish to access telecommunications relay services, please dial 7-1-1.

SUPPLEMENTARY INFORMATION:

Invitation to Comment: We invite you to submit comments regarding the proposed priorities and requirements. To ensure that your comments have maximum effect in developing the final priorities and requirements, we urge you to clearly identify the specific section of the proposed priorities and requirements that each comment addresses.

We are particularly interested in comments about whether the proposed priorities or any of the proposed requirements would be challenging for new applicants to meet and, if so, how the proposed priorities or requirements could be revised to address potential challenges. The Department is also particularly interested in comments in response to the following questions.

Directed Questions:

1. What are the common challenges or barriers experienced by State educational agencies (SEAs) in developing and implementing career pathways for those interested in becoming fully certified special education teachers, including paraprofessionals, through residency, grow your own (GYO), and registered apprenticeships programs?

2. What supports would help SEAs to develop and implement career pathways for those interested in becoming fully certified special education teachers, including paraprofessionals, through residency, GYO, and registered apprenticeships programs?

3. What are the common challenges or barriers experienced by SEAs in developing and implementing a system to address the professional learning and certification needs of personnel with an emergency certification who work with children with disabilities?

4. What supports would help SEAs to develop and implement a system to address the professional learning and certification needs of personnel with an emergency certification who work with children with disabilities?

5. Which stakeholders should SEAs collaborate with to develop and implement a system to address the professional learning and certification needs of personnel with an emergency certification who work with children with disabilities?

We invite you to assist us in complying with the specific requirements of Executive Orders 12866, 13563, and 14094 and their overall requirement of reducing regulatory burden that might result from these proposed priorities and requirements. Please let us know of any further ways we could reduce potential costs or increase potential benefits while preserving the effective and efficient administration of the program.

During and after the comment period, you may inspect public comments about the proposed priorities and requirements by accessing Regulations.gov. To inspect comments in person, please contact the person listed under FOR FURTHER INFORMATION CONTACT.

Assistance to Individuals with Disabilities in Reviewing the Rulemaking Record: On request we will provide an appropriate accommodation or auxiliary aid to an individual with a disability who needs assistance to review the comments or other documents in the public rulemaking record for these proposed priorities and requirements. If you want to schedule an appointment for this type of accommodation or auxiliary aid, please contact the person listed under FOR FURTHER INFORMATION CONTACT.

Purpose of Program: The purpose of the SPDG program is to assist SEAs in reforming and improving their systems for personnel preparation and professional development of individuals providing early intervention, educational, and transition services to improve results for children with disabilities.

“Raise the Bar: Lead the World” (RTB) is the Department's call to action to transform prekindergarten through postsecondary learning and unite around what truly works by promoting academic excellence, boldly improving learning conditions, and preparing our Nation's students for global competitiveness (www.ed.gov/raisethebar/). A robust and sustainable educator workforce available to educate and support all children and youth, including children and youth with disabilities, is essential to this call to action. These proposed priorities and requirements support the Department's RTB goals. Specifically, we are proposing priorities designed to:

• Mitigate the barriers to improved educational outcomes and functional results for children with disabilities by increasing the number of well-qualified, fully certified special education teachers, including paraprofessionals;

• Increase collaborative and effective instruction and services for children with disabilities;

• Expand the ability of principals to serve as instructional leaders who create an equity-based, cooperative, and inclusive environment; and

• Provide pre-service and in-service personnel with the knowledge, attitudes, skills, and aspiration to engage effectively with families.

The SPDG program, as a pre-service and in-service professional development program, is uniquely positioned to support the Department's RTB goals by helping to ensure that children with disabilities have access to well-qualified educators and by growing the number of teachers and administrators who can use data to develop and implement standards-based individualized education programs (IEPs) and provide effective instruction in inclusive environments. The proposed priorities specified in this notice are designed to support pathways and professional development for personnel to improve outcomes for children with disabilities.

We intend for these proposed priorities to supplement Absolute Priorities 1 and 2 published in the Federal Register on December 19, 2022 (87 FR 77566),¹ as well as other relevant statutory and regulatory priorities established by the Department. Specifically, as part of any SPDG competition, all applicants would be required to meet the statutory requirements in sections 651 through 655 of the Individuals with Disabilities Education Act (IDEA), 20 U.S.C. 1451-1455.

¹ See www.federalregister.gov/documents/2022/12/19/2022-27367/applications-for-new-awards-state-personnel-development-grants.

Program Authority: 20 U.S.C. 1451-1455.

Proposed Priorities

This document contains five proposed priorities. Proposed Priorities 1 through 5 are based on allowable activities in sections 651 through 655 of IDEA. These proposed priorities would be applicable to all eligible applicants. We may apply one or more of these priorities in any year in which this program is in effect.

Proposed Priority 1: Providing Career Pathways for Those Interested in Becoming Fully Certified Special Education Teachers, Including Paraprofessionals, Through Residency, GYO, and Registered Apprenticeships Programs

Background:

The purpose of this proposed priority is to assist SEAs in developing and implementing or enhancing existing teacher residency, grow your own (GYO), and registered apprenticeships programs that provide additional pathways to becoming a special education teacher.

According to the October 2022 results of the National Center for Education Statistics (NCES) School Pulse Panel on Staffing, 21 percent of responding public schools reported that they were not fully staffed in the area of special education for the 2022-2023 school year (U.S. Department of Education, 2023). Ensuring all students have access to a well-qualified, fully certified teacher must continue to be a priority for all States. By reducing the cost of earning a license and offering flexible scheduling, teacher residency, GYO, and registered apprenticeships programs are designed to bring more people into the profession. Teacher residency, GYO, and registered apprenticeships programs may open doors to the profession for those who may otherwise face barriers to entrance, including multilingual, racially and ethnically diverse individuals, individuals who have disabilities, and paraprofessionals who may already have decades of classroom experience, but for numerous reasons, including cost, could not pursue a teaching degree.

The Department has partnered with the Department of Labor and leading education organizations to advance high-quality and affordable teacher preparation through the expansion of registered apprenticeship programs for K-12 teachers, which can be used to scale and strengthen evidence-based teacher residency and GYO programs (see www.whitehouse.gov/briefing-room/statements-releases/2022/08/31/fact-sheet-biden-harris-administration-announces-public-and-private-sector-actions-to-strengthen-teaching-profession-and-help-schools-fill-vacancies/ and www.ed.gov/news/press-releases/education-labor-departments-announce-new-efforts-to-advance-teacher-preparation-programs-and-expand-registered-apprenticeships-educators).

Research shows that high-quality residency models can expand the pool of well-prepared applicants entering the teaching profession, promoting diversity of the workforce and bringing a wide range of experiences into the classroom to support students. A 2014 implementation study published by the Institute of Education Sciences shows that residents are more likely than nonresidents to report feeling prepared to enter the classroom and that after program completion, more than 90 percent of residents stayed in their school district for three years (Silva et al., 2014).

When aligned to high-quality, evidence-based practices for education preparation, such as those drafted by the Pathways Alliance and approved by the Department of Labor, registered apprenticeship programs have the potential to be an effective, high-quality “earn and learn” model that allow candidates to earn their teaching credential while earning a salary by combining coursework with structured, paid on-the-job learning experiences with a mentor teacher (Pathways Alliance, 2023). Registered apprenticeship programs for K-12 teachers can be used to establish, scale, and build on existing high-quality pathways into teaching that emphasize classroom-based experience, such as teacher residencies.

GYO is an approach to developing a pipeline of educator candidates to meet specific workforce needs that seeks to eliminate any barriers that may prevent local candidates from entering or remaining in the field. GYO programs are distinguished from other pipelines by whom they target, focusing on recruitment of high school students, career changers, paraprofessionals, non-teaching-school faculty, and community members (Espinoza et al., 2018). Offering financial aid (e.g., loan forgiveness and scholarships) to candidates completing GYO programs, targeting communication to specific populations, and establishing systems for candidates to receive continuous coaching and mentoring from entrance into the GYO program through early service can all aid in the success of these programs (Carver-Thomas, 2018; Professional Educator Standards Board, 2018; Texas Comprehensive Center, 2018). GYO programs can help address shortages in high-need areas and subjects, such as in rural schools and in special education (Jessen et al., 2020); it can also result in improved recruitment and retention of teachers of color (Gist et al., 2019).

Proposed Priority 1:

Projects designed to increase the number of certified special education teachers by establishing a new, or enhancing an existing, teacher residency, GYO, or registered apprenticeship program that minimizes or eliminates the cost of certification for special education teacher candidates and provides opportunities for candidates to be paid, including being provided with a stipend (which, for programs that include paid experience for the duration of the certification program, can be met through paragraph (i), below), to cover the time spent gaining classroom experience during their certification program.

A project implementing a new or enhanced teacher residency, GYO, or registered apprenticeship program must—

(a) Use data-driven strategies and evidence-based approaches to increase recruitment, successful completion, and retention of the special education teachers supported by the project;

(b) Provide standards for participants to enter into and complete the program;

(c) Be aligned to evidence-based (as defined in 34 CFR 77.1) practices for effective educator preparation;

(d) Have little to no financial burden for program participants, or provide for loan forgiveness;

(e) Provide opportunities for candidates to be paid, including being provided with a stipend, to cover time spent in clinical experience during their certification program;

(f) Develop a plan to monitor program quality;

(g) Require completion of a bachelor's degree either before entering or as a result of the residency, GYO, or apprenticeship program;

(h) Result in the satisfaction of all requirements for full State teacher licensure or certification, excluding emergency, temporary, provisional, or other sub-standard licensure or certification;

(i) Provide increasing levels of responsibility for the resident/GYO participant/apprentice during at least one year of paid on-the-job learning/clinical experience, during which a mentor teacher is the teacher of record; and

(j) Develop a plan to ensure the program has funding after the end of the project period.

In their applications, States must describe how their projects will meet these program requirements. In addition to these requirements, to be considered for funding under this priority, applicants must meet the application and administrative requirements under Common Elements.

Proposed Priority 2: Supporting Emergency Certified Special Education Teachers To Become Fully Certified

Background:

Citing a Department of Education report, Wilkerson and colleagues (2022) note that all States and the District of Columbia have reported a shortage of special education teachers in at least one academic year between 2014-2018. In fact, 48 States have authorized alternative routes to fill special education positions (Myers et al., 2020).

For decades, school districts have relied on unlicensed special education teachers to fill these vacancies, leaving students with disabilities to receive educational services from insufficiently trained individuals and resulting in inequitable educational opportunities (Wilkerson et al., 2022). Under IDEA, teachers who are not fully certified may provide special education instruction under an emergency certification as long as they are participating in a program that provides an alternate route to full special education teacher certification and that certain additional criteria are met.² Numerous States across the country have filled teaching positions through such emergency certifications due to shortages of fully certified special education teachers.

² IDEA section 612(a)(14)(C), as amended by ESSA, eliminates the definition of “highly qualified” and specifies Federal requirements for the employment of special education teachers. Under Assurance 14, special education teachers must: have obtained full certification by completing traditional or alternate preparation, or by passing the State special education licensing examination; have not had special education certification or licensure requirements waived on an emergency, temporary, or provisional basis; and hold at least a bachelor's degree.

National test scores suggest students with disabilities are losing ground in reading and are not improving in mathematics (Annie E. Casey Foundation, 2023; U.S. Department of Education, 2022). It is critical that special educators serving under an emergency certification become fully certified via high-quality programs. A high-quality pathway to certification can provide special education teachers with the knowledge and skills to collaboratively develop, implement, and monitor the progress of IEPs that lead to student success, while planning and providing instruction alongside general education teachers. They require the skills to effectively collaborate with administrators, related service providers, and families to optimize instruction, services, and supports for students with disabilities.

Proposed Priority 2:

Projects designed to increase the number of fully certified special education teachers by implementing plans that address the emergency certification needs of personnel who work with children with disabilities. The plans must—

(a) Identify the barriers and challenges to full certification that are experienced by special education personnel on emergency certifications;

(b) Include evidence-based (as defined in 34 CFR 77.1) strategies to address those barriers and challenges and assist special education personnel on emergency certifications to obtain full certification, consistent with State-approved or State-recognized requirements, within three years;

(c) Include training and coaching on, at a minimum—

(1) The skills needed to collaboratively develop, implement, and monitor standards-based IEPs;

(2) High-leverage and evidence-based instructional and classroom management practices; and

(3) The provision of wrap-around services (e.g., social, emotional, and mental health supports), special education services, and other supports for children with disabilities; and

(d) Provide participating special education personnel on emergency certifications with opportunities to apply the evidence-based skills and practices described in paragraph (c) in the classroom.

In their applications, States must describe how their projects will meet these program requirements. In addition to these requirements, to be considered for funding under this priority, applicants must meet the application and administrative requirements under Common Elements.

Proposed Priority 3: Person-Centered IEPs That Support Instructional Progress

Background:

A cornerstone of special education under IDEA is a free appropriate public education (FAPE) in the least restrictive environment (LRE). It is through high-quality person-centered ³ individualized education programs (IEPs) that local educational agencies (LEAs) and schools plan and deliver evidence-based instruction, supports, and services to students with disabilities to provide FAPE in the LRE. However, States, LEAs, and schools continue to face significant challenges with providing FAPE, including person-centered, rigorous, and specially designed instruction and service delivery. Recent research indicates that the majority of IEPs are incomplete and lack substantive sufficiency of the statement of present levels of performance, which is the crucial initial component of a person-centered IEP (e.g., Hott et al., 2021; Lequia et al., 2023).

³ Some States and organizations have defined “person-centered,” as used in this notice, to reference when students and their families are actively sought to participate in their schooling, including IEP development and implementation, the course of study, and related and transition services, however this term is still developing in the field. The discussions and decisions leading to a person-centered program are founded upon the unique school, extracurricular, and postsecondary strengths, interests, and goals of the student and their family.

Effective preparation and support can increase the opportunities for, and ability of, leaders, educators, and families to participate in the development, implementation, and progress monitoring of academically meaningful and legally sound person-centered IEPs (Yell et al., 2020). Under IDEA, an IEP team for a child with a disability must include the child's parent(s), at least one general education teacher, the child's special education teacher or, where appropriate, the child's special education provider, a local educational agency representative, the child, whenever appropriate, and others who have knowledge or special expertise regarding the child. The multidisciplinary nature of the IEP team presents collaborative opportunities and challenges, especially between school professionals and parents (Goldman & Mason, 2018; Mueller & Vick, 2019). Parents play a critical role in the child's life. Parental input helps identify the child's strengths and needs and aids the team identifying appropriate services. This parental input adds significant value to the IEP and can lead to improved educational results and functional outcomes. To best support students, school and district personnel on IEP teams need the skills to choose and use evidence-based practices for core instruction and supplemental supports and services, such as those designed to foster self-efficacy, as well as to increase the child's learning opportunities with general education peers.

Proposed Priority 3:

Projects designed to provide pre-service and in-service training to school and district personnel, including IEP team members (e.g., special education and general education teachers, related service personnel who work with children with disabilities) and administrators, to improve their skills in developing and implementing person-centered IEPs that support instructional progress and improve functional outcomes ⁴ for children with disabilities. Projects must—

⁴ An IEP that supports instructional progress is an IEP that focuses on the academic, vocational, developmental, and social needs of the child and allows the child to benefit from instruction.

(a) Provide training and coaching to administrators and IEP team members to increase their ability to develop, implement, and monitor person-centered IEPs that support instructional progress so that they can—

(1) Use appropriate data to determine the child's instructional and functional strengths and needs;

(2) Increase the child's learning time and opportunities with general education peers, as appropriate, based on research;

(3) Choose and use evidence-based (as defined in 34 CFR 77.1) practices for core instruction; and

(4) Supplement core instruction with special education services.

In their applications, States must describe how their projects will meet these program requirements. In addition to these requirements, to be considered for funding under this priority, applicants must meet the application and administrative requirements under Common Elements.

Proposed Priority 4: Principals as Instructional Leaders Who Support Collaborative Service Provision

Background:

When principals are strong instructional leaders who help create an inclusive school environment and district leaders support those principals, all students, including students with disabilities, can thrive. School building administrators, including principals, vice principals, and teacher leaders, are responsible for IDEA implementation and ensuring children with disabilities are provided the services and supports that they are eligible for under IDEA. School building administrators help set high expectations for performance in schools and ensure that the unique, individual needs of each child with a disability are met, consistent with their IEP, and district administrators give them the tools, training, and support they need to do so.

Given that school building leaders have complex roles, it is not surprising that administrators who receive high-quality training handle the multi-faceted demands of the role better and stay in their jobs longer (Herman et al., 2022). When that is the case, principals can be instrumental in supporting teacher and provider practices, motivating school staff, maintaining a positive school program climate, and ensuring inclusive settings are offered. Access to professional learning opportunities influences administrators' job satisfaction and retention (Boyce & Bowers, 2016). In addition to covering essential, research-based content on topics such as instructional leadership, data-based decision making, and systems improvement, the structure of continued professional development for administrators also matters (Darling-Hammond et al., 2022). Especially important to building the capacity of administrators is access to coordinated, continued professional development with structured learning opportunities, such as through a cohort model, mentoring, one-on-one coaching, networking to build a professional community, applied learning opportunities, and problem-solving related to the needs of individual children.

Proposed Priority 4:

Projects designed to provide professional development to improve the instructional leadership provided by principals, district leaders, and teacher leaders (administrators) to promote educational equity for children with disabilities. Projects must provide training and coaching to assist administrators to—

(a) Create and support equitable school schedules and other operations that enable collaborative services from general and special education staff;

(b) Support schoolwide inclusionary practices within a multi-tiered systems of support (MTSS) framework;

(c) Support evidence-based (as defined in 34 CFR 77.1) professional development for their staff related to—

(1) Effective content instruction;

(2) Data for decision-making and continuous progress monitoring;

(3) IEP development and implementation; and

(4) Wrap-around services;

(d) Actively engage families and school communities to identify and address concerns regarding, and barriers to, accessibility, equity, and inclusiveness, using frameworks such as universal design; and

(e) Provide administrators structured learning opportunities, such as through a cohort model, mentoring, one-on-one coaching, networking to build a professional community, and applied learning opportunities, such as problem-solving related to the needs of individual children.

In their applications, States must describe how their projects will meet these program requirements. In addition to these requirements, to be considered for funding under this priority, applicants must meet the application and administrative requirements under Common Elements.

Proposed Priority 5: Improving Engagement Between Schools and Families

Background:

Family engagement is one of the most powerful predictors of a child's development, educational attainment, and success in school and life (Weiss et al., 2018). Research shows that increased family involvement is related to improved child development and student achievement, attendance, behavior, graduation rates, advanced course enrollment, and college enrollment (Henderson & Mapp, 2002; Robinson et al., 2018; Young et al., 2023). The perspective of family members at the table is needed to create and advocate for the kinds of student-centered learning experiences that will allow all students to: master academic content aligned with the standards; gain future-ready knowledge, skills, and dispositions; and succeed in postsecondary learning and careers (Weiss et al., 2018). Research suggests that collaboration between schools and families is an important support for students with learning and behavioral challenges, including students with disabilities (Sheridan & Wheeler, 2017). Further, children learn anywhere, anytime, and not just in school. Families play a central role in supporting learning and building learning pathways.

To bring families to the table and engender learning in the home and community, commitments and support that foster mutual trust and shared responsibility are necessary (Ogg et al., 2021). Educators who understand how culture and community shape family engagement practices can better work from families' strengths and create high-quality IEPs that will lead to success in school, college, and career.

Family engagement is central to IDEA, which states that families are equal members of the IEP team who must be provided the opportunity to fully participate in all decisions concerning a child's evaluation, placement, and services. When families contribute to IEP decisions, educators may be more successful in planning and delivering productive interventions and supports (Turnbull et al., 2018). Furthermore, involving families in data-based decision making allows them to take a more active role in supporting their children's learning and behavior at home (Weingarten et al., 2020). Families can reinforce school routines, expectations, and language, thereby creating alignment between home and school that may, in turn, contribute to improved student outcomes (Garbacz et al., 2016). Family-professional partnerships and caregiver involvement are impacted by how educators value caregivers' input, and school-home communication can have positive effects on child behavioral outcomes (Li & Burke, 2023).

Proposed Priority 5:

Projects designed to develop the capacity of administrators and educators to develop systems and use strategies that build trust and engagement with families, while further strengthening the role families play in their child's development and learning. Projects must—

(a) Provide training and coaching to assist administrators to—

(1) Develop and implement policies and programs that recognize families' funds of knowledge, connect family engagement to student learning, and create welcoming, inviting cultures; and

(2) Create systems that support staff and families in meaningful engagement (i.e., Leading by Convening and the Dual-Capacity Framework. For more information visit www.dualcapcity.org and www.ncsi.wested.org/resources/leading-by-convening);

(b) Provide training and coaching to assist educators and early intervention providers to—

(1) Build their knowledge, attitudes, beliefs, aspirations, and behaviors about effective strategies to engage families in their child's learning;

(2) Work with families to make collaborative, data-based decisions in the development and implementation of the child's IEP; and

(3) Provide information and resources to families that enable them to support their children's learning and behavior at home; and

(c) Provide training and coaching to families so they can—

(1) Meaningfully participate in the development and implementation of their child's IEP;

(2) Participate in data-based decision making related to their child's education; and

(3) Further their child's learning at home.

In their applications, States must describe how their projects will meet these program requirements. In addition to these requirements, to be considered for funding under this priority, applicants must meet the application and administrative requirements under Common Elements.

Common Elements:

In addition to the requirements contained in the proposed priorities, to be considered for funding, applicants must meet the following application and administrative requirements:

(a) Demonstrate, in the narrative section of the application under “Significance,” how the proposed project will—

(1) Align with and integrate other State initiatives and programs, as well as district and local improvement plans, to leverage existing professional development and data systems;

(2) Develop and implement plans to sustain the grant program after the grant funding has ended; and

(3) Integrate family engagement into all project efforts by supporting capacity building for personnel and families.

(b) Demonstrate, in the narrative section of the application under “Quality of Project Services,” how the proposed project will—

(1) Ensure equal access and treatment for members of groups that have traditionally been underrepresented based on race, color, national origin, gender, age, or disability. To meet this requirement, the applicant must describe how it will—

(i) Develop the knowledge and ability of personnel to be culturally responsive and engage children and families with a strengths-based approach;

(ii) Engage students, families, and community members to assess the appropriateness and impact of the intervention, program, or strategies; and

(iii) Review program procedures and resources to ensure a diversity of perspectives are brought into the project; and

(2) Achieve the project's goals and objectives. To meet this requirement, the applicant must provide—

(i) Either a logic model (as defined in 34 CFR 77.1) or theory of action (to be provided in Appendix A), which demonstrates how the proposed project will achieve intended measurable outcomes;

(ii) A description of proposed in-State and national partners that the project will work with to achieve the goals and objectives of the grant and how the impact of these partnerships will be measured; and

(iii) A description of how the project will be based on current research and make use of evidence-based (as defined in 34 CFR 77.1) practices. To meet this requirement, the applicant must describe—

(A) The current research base for the chosen interventions;

(B) The evidence-based model or practices to be used in the project's professional development activities; and

(C) How implementation science will be used to support full and sustained use of evidence-based practices and result in sustained systems of implementation support.

(c) In the narrative section of the application under “Quality of the project evaluation,” include an evaluation plan for the project developed in consultation with and implemented by a third-party ⁵ evaluator. The evaluation plan must—

⁵ A “third-party” evaluator is an independent and impartial program evaluator who is contracted by the grantee to conduct an objective evaluation of the project. This evaluator must not have participated in the development or implementation of any project activities, except for the evaluation activities, nor have any financial interest in the outcome of the evaluation.

(1) Articulate formative and summative evaluation questions, including important process and outcome evaluation questions. These questions should be related to the project's proposed logic model or theory of action required under paragraph (b)(2)(i) of these requirements;

(2) Describe how progress in and fidelity of implementation, as well as project outcomes, will be measured to answer the evaluation questions. Specify the measures and associated instruments or sources for data appropriate to the evaluation questions. Include information regarding reliability and validity of measures where appropriate;

(3) Describe strategies for analyzing data and how data collected as part of this plan will be used to inform and improve service delivery over the course of the project and to refine the proposed logic model or theory of action and evaluation plan, including subsequent data collection;

(4) Provide a timeline for conducting the evaluation and include staff assignments for completing the plan. The timeline must indicate that the data will be available annually for the annual performance report to the Department; and

(5) Dedicate sufficient funds in each budget year to cover the costs of developing or refining the evaluation plan in consultation with a third-party evaluator, as well as the costs associated with the implementation of the evaluation plan by the third-party evaluator.

(d) Demonstrate, in the narrative section of the application under “Adequacy of resources,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits and funds will be spent in a way that increases their efficiency and cost-effectiveness, including by reducing waste or achieving better outcomes.

(e) Demonstrate, in the narrative section of the application under “Quality of the management plan,” how the proposed management plan will ensure that the project's intended outcomes will be achieved on time and within budget. To address this requirement, the applicant must describe—

(1) Clearly defined responsibilities for key project personnel, consultants, and subcontractors, as applicable;

(2) Timelines and milestones for accomplishing the project tasks;

(3) How key project personnel and any consultants and subcontractors will be allocated to the project and how these allocations are appropriate and adequate to achieve the project's intended outcomes; and

(4) How the proposed project will benefit from a diversity of perspectives, including those of families, educators, technical assistance providers, researchers, and policy makers, among others, in its development and operation.

(f) Address the following application requirements. The applicant must—

(1) Include, in Appendix A, personnel-loading charts and timelines, as applicable, to illustrate the management plan described in the narrative;

(2) Provide an assurance that any project website will include relevant information and documents in a form that meets a government or industry-recognized standard for accessibility;

(3) Include, in the budget, attendance at the following:

(i) An annual one and one-half day SPDG National Meeting in the Washington, DC area during each year of the project period; and

(ii) A three-day project directors' conference in Washington, DC, during each year of the project period, provided that, if the conference is conducted virtually, the project must reallocate unused travel funds no later than the end of the third quarter of each budget period; and

(4) Budget $6,000 annually for support of the SPDG program network and website currently administered by the University of Oregon (www.signetwork.org).

References

Annie E. Casey Foundation. (2023). 2023 Kids Count® data book. www.aecf.org/resources/2023-kids-count-data-book.

Boyce, J., & Bowers, A.J. (2016). Principal turnover: Are there different types of principals who move from or leave their schools? A latent class analysis of the 2007-2008 schools and staffing survey and the 2008-2009 principal follow-up survey. Leadership and Policy in Schools, 15(3), 237-272. https://doi.org/10.1080/15700763.2015.1047033.

Carver-Thomas, D. (2018). Diversifying the teaching profession: How to recruit and retain teachers of color. Learning Policy Institute. https://learningpolicyinstitute.org/sites/default/files/product-files/Diversifying_Teaching_Profession_REPORT_0.pdf.

Darling-Hammond, L., Wechsler, M.E., Levin, S., Leung-Gagné, M., & Tozer, S. (2022). Developing effective principals: What kind of learning matters? Learning Policy Institute. https://doi.org/10.54300/641.201.

Espinoza, D., Saunders, R., Kini, T., & Darling-Hammond, L. (2018). Taking the long view: State efforts to solve teacher shortages by strengthening the profession. Learning Policy Institute. https://learningpolicyinstitute.org/product/long-view-report.

Garbacz, S.A., McIntosh, K., Eagle, J.W., Dowd-Eagle, S.E., Hirano, K.A., & Ruppert, T. (2016). Family engagement within schoolwide positive behavioral interventions and supports. Preventing School Failure: Alternative Education for Children and Youth, 60(1), 60-69. https://doi.org/10.1080/1045988X.2014.976809.

Gist, C.D., Bianco, M., & Lynn, M. (2019). Examining grow your own programs across the teacher development continuum: Mining research on teachers of color and nontraditional educator pipelines. Journal of Teacher Education, 70(1), 13-25. https://doi.org/10.1177/0022487118787504.

Goldman, S.E., & Mason, C.Q. (2018). Predictors of participant perceptions of facilitated individualized education program meeting success. Journal of Disability Policy Studies, 29(1), 43-53. https://doi.org/10.1177/1044207317752125.

Henderson, A.T., & Mapp, K.L. (2002). A new wave of evidence: The impact of school, family and community connections on student achievement. Southwest Educational Development Laboratory. https://sedl.org/pubs/catalog/items/fam33.html.

Herman, R., Woo, A., Wang, E.L., Gates, S.M., Berglund, T., Schweig, J., Andrew, M., & Todd, I. (2022). Redesigning university principal preparation programs: A systematic approach for change and sustainability—Full Report (Volume 3, Part 1). RAND Corporation. www.rand.org/pubs/research_reports/RRA413-3.html.

Hott, B.L., Jones, B.A., Randolph, K.M., Kuntz, E., McKenna, J.W., & Brigham, F.J. (2021). Lessons learned from a descriptive review of rural individualized education programs. The Journal of Special Education, 55(3), 163-173. https://doi.org/10.1177/0022466920972670.

Jessen, S., Fairman, J., Fallona, C., & Johnson, A. (2020). Consider “Grow-Your-Own” (GYO) models by examining existing teacher preparation programs in Maine. Maine Education Policy Research Institute. 121. https://digitalcommons.library.umaine.edu/mepri/121.

Lequia, J.L., Vincent, L.B., Lyons, G.L., Asmus, J.M., & Carter, E.W. (2023). Individualized education programs of high school students with significant disabilities. Education and Training in Autism and Developmental Disabilities, 58(1), 22-35. www.proquest.com/scholarly-journals/individualized-education-programs-high-school/docview/2777274832/se-2.

Li, C., & Burke, M.M. (2023). A systematic literature review of the patterns of school-home communication among caregivers of children with autism. Review Journal of Autism and Developmental Disorders. https://doi.org/10.1007/s40489-023-00396-0.

Mueller, T.G., & Vick, A.M. (2019). An investigation of facilitated individualized education program meeting practice: Promising procedures that foster family-professional collaboration. Teacher Education and Special Education, 42(1), 67-81. https://doi.org/10.1177/0888406417739677.

Myers, J.A., Gilbert, K., & Sindelar, P. (2020). Does alternative route preparation meet the requirements of IDEA assurance 14? A policy analysis. Teacher Education and Special Education, 43(4), 332-342. https://doi.org/10.1177/0888406420912374.

Ogg, J., Clark, K., Strissel, D., & Rogers, M. (2021). Parents' and teachers' ratings of family engagement: Congruence and prediction of outcomes. School Psychology, 36(3), 142-154. https://doi.org/10.1037/spq0000379.

Pathways Alliance. (2023). National guidelines for apprenticeship standards for K-12 teacher apprenticeships. www.thepathwaysalliance.org/reports.

Professional Educator Standards Board. (2016). Grow your own teachers report: Enhancing educator pathways to address teacher shortage and increase diversity. www.pesb.wa.gov/resources-and-reports/reports/grow-your-own-teachers-report/.

Robinson, C.D., Lee, M.G., Dearing, E., & Rogers, T. (2018). Reducing student absenteeism in the early grades by targeting parental beliefs. American Educational Research Journal, 55(6), 1163-1192. https://doi.org/10.3102/0002831218772274.

Sheridan, S.M., & Wheeler, L.A. (2017). Building strong family-school partnerships: Transitioning from basic findings to possible practices. Family Relations, 66(4), 670-683. https://doi.org/10.1111/fare.12271.

Silva, T., McKie, A., Knechtel, V., Gleason, P., & Makowsky, L. (2014). Teaching residency programs: A multisite look at a new model to prepare teachers for high-need schools (NCEE 2015-4002). National Center for Education Evaluation and Regional Assistance, Institute of Education Sciences, U.S. Department of Education.

Texas Comprehensive Center. (2018). Grow your own teachers initiatives resources. American Institutes for Research. https://compcenternetwork.org/resources/resource/4290/grow-your-own-teachers-initiatives-resources.

Turnbull, H.R., Turnbull, A.P., & Cooper, D.H. (2018). The Supreme Court, Endrew, and the appropriate education of students with disabilities. Exceptional Children, 84(2), 124-140. https://doi.org/10.1177/0014402917734150.

U.S. Department of Education, Institute of Education Sciences, National Center for Education Statistics. (2023). School Pulse Panel. https://ies.ed.gov/schoolsurvey/spp/.

U.S. Department of Education, Institute of Education Sciences, National Center for Education Statistics, National Assessment of Educational Progress (NAEP). (2022). Largest score declines in NAEP mathematics at grades 4 and 8 since initial assessments in 1990. www.nationsreportcard.gov/highlights/mathematics/2022/.

Weingarten, Z., Zumeta Edmonds, R., & Arden, S. (2020). Better together: Using MTSS as a structure for building school-family partnerships. Teaching Exceptional Children, 53(2), 122-130. https://doi.org/10.1177/0040059920937733.

Weiss, H., Lopez, M.E., & Caspe, M. (2018). Joining together to create a bold vision for next generation family engagement. Global Family Research Project. https://media.carnegie.org/filer_public/f8/78/f8784565-4bd6-4aa3-bd80-2b98fd43380e/parent-engagement-2018.pdf.

Wilkerson, K.L., Sikora, E.E., & Leko, M.M. (2022). Complicating the narrative about emergency certified special educators. Exceptionality, 30(5), 366-375. https://doi.org/10.1080/09362835.2021.1938061.

Yell, M.L., Collins, J., Kumpiene, G., & Bateman, D. (2020). The individualized education program: Procedural and substantive requirements. Teaching Exceptional Children, 52(5), 304-318. https://doi.org/10.1177/0040059920906592.

Young, J.M., Reed, K.E., Rosenberg, H., & Kook, J.F. (2023). Adding family math to the equation: Promoting Head Start preschoolers' mathematics learning at home and school. Early Childhood Research Quarterly, 63, 43-58. https://doi.org/10.1016/j.ecresq.2022.11.002.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priorities and Requirements:

We will announce the final priorities and requirements in a document in the Federal Register. We will determine the final priorities and requirements after considering public comments on the proposed priorities and requirements and other information available to the Department. This document does not preclude us from proposing additional priorities, requirements, definitions, or selection criteria, subject to meeting applicable rulemaking requirements.

Note: This document does not solicit applications. In any year in which we choose to use one or more of these proposed priorities and these requirements, we invite applications through a notice in the Federal Register.

Executive Orders 12866, 13563, and 14094

Regulatory Impact Analysis

Under Executive Order 12866, the Office of Management and Budget (OMB) determines whether this regulatory action is “significant” and, therefore, subject to the requirements of the Executive order and subject to review by OMB. Section 3(f) of Executive Order 12866, as amended by Executive Order 14094, defines a “significant regulatory action” as an action likely to result in a rule that may—

(1) Have an annual effect on the economy of $200 million or more (adjusted every three years by the Administrator of Office of Information and Regulatory Affairs (OIRA) for changes in gross domestic product); or adversely affect in a material way the economy, a sector of the economy, productivity, competition, jobs, the environment, public health or safety, or State, local, territorial, or Tribal governments or communities;

(2) Create a serious inconsistency or otherwise interfere with an action taken or planned by another agency;

(3) Materially alter the budgetary impacts of entitlement grants, user fees, or loan programs or the rights and obligations of recipients thereof; or

(4) Raise novel legal or policy issues for which centralized review would meaningfully further the President's priorities, or the principles set forth in this Executive order, as specifically authorized in a timely manner by the Administrator of OIRA in each case.

This proposed regulatory action is not a significant regulatory action subject to review by OMB under section 3(f) of Executive Order 12866, as amended by Executive Order 14094.

We have also reviewed this proposed regulatory action under Executive Order 13563, which supplements and explicitly reaffirms the principles, structures, and definitions governing regulatory review established in Executive Order 12866, as amended by Executive Order 14094. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” OIRA has emphasized that these techniques may include “identifying changing future compliance costs that might result from technological innovation or anticipated behavioral changes.”

We are issuing these proposed priorities and requirements only on a reasoned determination that their benefits would justify their costs. In choosing among alternative regulatory approaches, we selected those approaches that would maximize net benefits. Based on the analysis that follows, the Department believes that this regulatory action is consistent with the principles in Executive Order 13563.

We also have determined that this regulatory action would not unduly interfere with State, local, and Tribal governments in the exercise of their governmental functions.

In accordance with these Executive orders, the Department has assessed the potential costs and benefits, both quantitative and qualitative, of this regulatory action. The potential costs are those resulting from statutory requirements and those we have determined as necessary for administering the Department's programs and activities.

Clarity of the Regulations

Executive Order 12866 and the Presidential memorandum “Plain Language in Government Writing” require each agency to write regulations that are easy to understand.

The Secretary invites comments on how to make these proposed priorities and requirements easier to understand, including answers to questions such as the following:

• Are the requirements in the proposed priorities and requirements clearly stated?

• Do the proposed priorities and requirements contain technical terms or other wording that interferes with their clarity?

• Does the format of the proposed priorities and requirements (grouping and order of sections, use of headings, paragraphing, etc.) aid or reduce their clarity?

• Would the proposed priorities and requirements be easier to understand if we divided them into more (but shorter) sections?

• Could the description of the proposed priorities and requirements in the SUPPLEMENTARY INFORMATION section of this preamble be more helpful in making the proposed priorities and requirements easier to understand? If so, how?

• What else could we do to make the proposed priorities and requirements easier to understand?

To send any comments about how the Department could make these proposed priorities and requirements easier to understand, see the instructions in the ADDRESSES section.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Regulatory Flexibility Act Certification: The Secretary certifies that these proposed priorities and requirements would not have a significant economic impact on a substantial number of small entities. Participation in the SPDG program is voluntary. In addition, the only eligible entities for this program are SEAs, which do not meet the definition of a small entity. For these reasons, the proposed priorities and requirements would not impose any additional burden on small entities. We expect that in determining whether to apply for SPDG program funds, an eligible entity would evaluate the requirements of preparing an application and any associated costs and weigh them against the benefits likely to be achieved by receiving an SPDG program grant. An eligible entity probably would apply only if it determines that the likely benefits exceed the costs of preparing an application.

We believe that these proposed priorities and requirements would not impose any additional burden on a small entity applying for a grant than the entity would face in the absence of the proposed action. That is, the length of the applications those entities would submit in the absence of the proposed regulatory action and the time needed to prepare an application would likely be the same.

This proposed regulatory action would not have a significant economic impact on a small entity once it receives a grant because it would be able to meet the costs of compliance using the funds provided under this program. We invite comments from eligible small entities as to whether they believe this proposed regulatory action would have a significant economic impact on them and, if so, request evidence to support that belief.

Paperwork Reduction Act of 1995

These proposed priorities and requirements contain information collection requirements that are approved by OMB under OMB control number 1820-0028. The proposed priorities and requirements do not affect the currently approved data collection.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Glenna Wright-Gallo,
Assistant Secretary for Special Education and Rehabilitative Services.

[FR Doc. 2024-06656 Filed 3-27-24; 8:45 am]

BILLING CODE 4000-01-P